DEPARTMENT OF THE INTERIOR

Office of the Secretary

Central Utah Project Completion Act

AGENCY: Office of the Assistant Secretary for Water and Science, Department of the Interior.

ACTION: Notice of intent to negotiate an agreement among the Forest Service, Central Utah Water Conservancy District, the Utah Reclamation Mitigation and Conservation Commission, the Duchesne County Water Conservancy District, the Moon Lake Water Users Association, and Department of the Interior to Implement the Uinta Basin Replacement Project, Duchesne County, Utah.

SUMMARY: Public Law 102-575, Central Utah Project Completion Act, Section 203(a) authorized the construction of the Uinta Basin Replacement Project. Responsibilities for the construction and operation of the project are described in four contracts executed by the Department of the Interior and the other parties on November 15, 2001. The purpose of the proposed implementation agreement is to identify the entity or entities responsible for monitoring environmental mitigation, to allocate funds, and to delineate and assign any remaining tasks and obligations (not included in previous agreements). The terms of the implementation agreement are to be publicly negotiated among the Forest Service, Central Utah Water Conservancy District, the Utah Reclamation Mitigation and Conservation Commission, the Duchesne County Water Conservancy District, the Moon Lake Water Users Association, and Department of the Interior.

DATES: Dates for public negotiation sessions will be announced in local newspapers.

FOR FURTHER INFORMATION CONTACT: Additional information on matters related to this Federal Register notice can be obtained by contacting Mr. Wayne Pullan, Program Coordinator, CUP Completion Act Office, Department of the Interior, 302 East 1860 South, Provo, UT 84606-6154, (801) 379-1194, wpullan@uc.usbr.gov.

Dated: September 10, 2003.
Ronald Johnston,
Program Director, Department of the Interior.

[FR Doc. 03-23543 Filed 9-15-03; 8:45 am]

BILLING CODE 4310-RK-P